DEPARTMENT OF THE INTERIOR

Fish and Wildlife Service

50 CFR Part 17

[Docket Nos. FWS-HQ-ES-2014-0012; FWS-HQ-ES-2014-0013; FWS-HQ-ES-2014-0014; 450 003 0115]

Endangered and Threatened Wildlife and Plants; 90-Day Finding on Petitions To List Two Tortoises as Endangered or Threatened and and a Sloth as Endangered

AGENCY: Fish and Wildlife Service, Interior.

ACTION: Notice of petition findings and initiation of status reviews.

SUMMARY: We, the U.S. Fish and Wildlife Service (Service), announce 90-day findings on two petitions to list two species (Flat-tailed tortoise (Pyxis planicauda) and Spider tortoise (Pyxis arachnoides)) as endangered or threatened and one petition to list one species (Pygmy three-toed sloth (Bradypus pygmaeus)) as endangered under the Endangered Species Act of 1973, as amended (Act). Based on our review, we find that these petitions present substantial scientific or commercial information indicating that the petitioned actions may be warranted. Therefore, with the publication of this document, we are initiating a review of the status of these species to determine if the petitioned actions are warranted. To assure that the best scientific and commercial data informs the status review and, if warranted, the subsequent listing determinations, and to provide an opportunity for all interested parties to provide information for consideration for the status assessment, we are requesting information regarding these species (see Request for Information, below). Based on the status reviews, we will issue 12-month findings on the petitions, which will address whether the petitioned action is warranted, as provided in section 4(b)(3)(B) of the Act.

DATES: To allow us adequate time to conduct these status reviews, we request that we receive information no later than September 8, 2014. Information submitted electronically using the Federal eRulemaking Portal (see ADDRESSES, below) must be received by 11:59 p.m. Eastern Time on the closing date.

ADDRESSES: You may submit information by one of the following methods:

(1) Electronically: Go to the Federal eRulemaking Portal: http://www.regulations.gov. In the Search box, enter the appropriate docket number (see table, below). You may submit information by clicking on “Comment Now!” If your information will fit in the provided comment box, please use this feature of http://www.regulations.gov, as it is most compatible with our information review procedures. If you attach your information as a separate document, our preferred file format is Microsoft Word. If you attach multiple comments (such as form letters), our preferred format is a spreadsheet in Microsoft Excel.

(2) By hard copy: Submit by U.S. mail or hand-delivery to: Public Comments Processing, Attn: [Insert appropriate docket number; see table below]; Division of Policy and Directives Management; U.S. Fish and Wildlife Service; 4401 N. Fairfax Drive, MS 2042-PDM; Arlington, VA 22203.

We request that you send information only by the methods described above. We will post all comments on http://www.regulations.gov. This generally means that we will post any personal information you provide us (see Request for Information).

Species | Docket No.
Flat-tailed tortoise (Pyxis planicauda) | FWS-HQ-ES-2014-0012
Spider tortoise (Pyxis arachnoides) | FWS-HQ-ES-2014-0013
Pygmy three-toed sloth (Bradypus pygmaeus) | FWS-HQ-ES-2014-0014

FOR FURTHER INFORMATION CONTACT: Janine Van Norman, Chief, Branch of Foreign Species, Ecological Services Program, U.S. Fish and Wildlife Service, 4401 N. Fairfax Drive, Room 420, Arlington, VA 22203; telephone 703-358-2171; facsimile 703-358-1735. If you use a telecommunications device for the deaf (TDD), please call the Federal Information Relay Service (FIRS) at 800-877-8339.

SUPPLEMENTARY INFORMATION:

Request for Information

When we make a finding that a petition presents substantial information indicating that listing a species may be warranted, we are required to promptly review the status of the species (status review). For the status review to be complete and based on the best available scientific and commercial information, we request information on these species from range countries, governmental agencies, the scientific community, industry, and any other interested parties. We seek information on:

(1) Each species' biology, range, and population trends, including:

(a) Habitat requirements;

(b) Genetics and taxonomy;

(c) Historical and current range, including distribution patterns;

(d) Historical and current population levels, and current and projected trends; and

(e) Past and ongoing conservation measures for the species, its habitat, or both.

(2) The factors that are the basis for making a listing determination for a species under section 4(a)(1) of the Act (16 U.S.C. 1531 et seq.), which are:

(a) The present or threatened destruction, modification, or curtailment of its habitat or range (“Factor A”);

(b) Overutilization for commercial, recreational, scientific, or educational purposes (“Factor B”);

(c) Disease or predation (“Factor C”);

(d) The inadequacy of existing regulatory mechanisms (“Factor D”); or

(e) Other natural or manmade factors affecting its continued existence (“Factor E”).

Please include sufficient information with your submission (such as scientific journal articles or other publications) to allow us to verify any scientific or commercial information you include.

Submissions merely stating support for or opposition to the actions under consideration without providing supporting information, although noted, will not be considered in making a determination. Section 4(b)(1)(A) of the Act directs that determinations as to whether any species is an endangered or threatened species must be made “solely on the basis of the best scientific and commercial data available.”

You may submit your information concerning these status reviews by one of the methods listed in the ADDRESSES section. If you submit information via http://www.regulations.gov, your entire submission—including any personal identifying information—will be posted on the Web site. If you submit a hardcopy that includes personal identifying information, you may request at the top of your document that we withhold this personal identifying information from public review. However, we cannot guarantee that we will be able to do so. We will post all hardcopy submissions on http://www.regulations.gov.

Information and supporting documentation that we received and used in preparing this finding will be available for you to review at http://www.regulations.gov, or you may make an appointment during normal business hours at the U.S. Fish and Wildlife Service's Branch of Foreign Species (see FOR FURTHER INFORMATION CONTACT).

Background

Section 4(b)(3)(A) of the Act requires that we make a finding on whether a petition to list a species presents substantial scientific or commercial information indicating that the petitioned action may be warranted. We are to base this finding on information provided in the petition and supporting information submitted with the petition. To the maximum extent practicable, we are to make this finding within 90 days of our receipt of the petition and publish our notice of the finding in the Federal Register.

Our standard for substantial scientific or commercial information within the Code of Federal Regulations (CFR) with regard to a 90-day petition finding is “that amount of information that would lead a reasonable person to believe that the measure proposed in the petition may be warranted” (50 CFR 424.14(b)). If we find that substantial scientific or commercial information was presented, we are required to commence a review of the status of the species, which will be subsequently summarized in our 12-month finding.

Section 4 of the Act (16 U.S.C. 1533) and its implementing regulations at 50 CFR Part 424 set forth the procedures for adding a species to, or removing a species from, the Federal Lists of Endangered and Threatened Wildlife and Plants. A species may be determined to be an endangered or threatened species due to one or more of the five factors described in section 4(a)(1) of the Act (see Request for Information).

In considering what factors might constitute threats, we must look beyond the exposure of the species to a factor to evaluate whether the species may respond to the factor in a way that causes actual impacts to the species. If there is exposure to a factor and the species responds negatively, the factor may be a threat and, during the status review, we attempt to determine how significant a threat it is. The threat is significant if it drives, or contributes to, the risk of extinction of the species such that the species may warrant listing as endangered or threatened as those terms are defined in the Act. However, the identification of factors that could impact a species negatively may not be sufficient to compel a finding that the information in the petition and our files is substantial. The information must include evidence sufficient to suggest that these factors may be operative threats that act on the species to the point that the species may meet the definition of endangered or threatened under the Act.

Review of Petition To List the Flat-Tailed Tortoise as Endangered or Threatened Under the Act

Additional information regarding our review of this petition can be found at http://www.regulations.gov under Docket No. FWS-HQ-ES-2014-0012 in the document labeled Appendix for the flat-tailed tortoise.

Species and Range

The flat-tailed tortoise (Pyxis planicauda) is endemic to Madagascar.

Petition History

On September 27, 2013, we received a petition from Friends of Animals and WildEarth Guardians, requesting that the flat-tailed tortoise be listed as endangered or threatened under the Act. The petition clearly identified itself as such and included the identification information for the petitioner required at 50 CFR 424.14(a). On October 25, 2013, we sent a response letter to the Petitioner acknowledging receipt of the petition. This finding addresses the petition.

Finding

Based on our review of the information provided in the petition and in the sources cited in the petition, we find that the petition presents substantial scientific or commercial information indicating that the petitioned action may be warranted for the flat-tailed tortoise based on factors A and E (see Appendix for the flat-tailed tortoise). Thus, for the flat-tailed tortoise, the Service requests information on the five listing factors under section 4(a)(1) of the Act (see Request for Information).

Review of Petition To List the Spider Tortoise as Endangered or Threatened Under the Act

Additional information regarding our review of this petition can be found at http://www.regulations.gov under Docket No. FWS-HQ-ES-2014-0013 in the document labeled Appendix for the spider tortoise.

Species and Range

The spider tortoise (Pyxis arachnoides) is endemic to Madagascar.

Petition History

On September 27, 2013, we received a petition from Friends of Animals and WildEarth Guardians, requesting that the spider tortoise be listed as endangered or threatened under the Act. The petition clearly identified itself as such and included the identification information for the petitioner required at 50 CFR 424.14(a). On October 25, 2013, we sent a response letter to the Petitioner acknowledging receipt of the petition. This finding addresses the petition.

Finding

Based on our review of the information provided in the petition and in the sources cited in the petition, we find that the petition presents substantial scientific or commercial information indicating that the petitioned action may be warranted for the spider tortoise based on factors A, B, D, and E (see Appendix for the spider tortoise). Thus, for the spider tortoise, the Service requests information on the five listing factors under section 4(a)(1) of the Act (see Request for Information).

Review of Petition To List the Pygmy Three-Toed Sloth as Endangered Under the Act

Additional information regarding our review of this petition can be found at http://www.regulations.gov under Docket No. FWS-HQ-ES-2014-0014 in the document labeled Appendix for the pygmy three-toed sloth.

Species and Range

The pygmy three-toed sloth (Bradypus pygmaeus) is endemic to Panama on the island of Isla Escudo de Veraguas (Isla Escudo).

Petition History

On November 15, 2013, we received a petition from the Animal Welfare Institute requesting that we emergency-list the pygmy three-toed sloth as endangered under the Act. The petition clearly identified itself as such and included the identification information for the petitioner required by 50 CFR 424.14(a). In a December 4, 2013, letter to the petitioner, we responded that we reviewed the information presented in the petition and did not find that the species warranted an emergency listing. This finding addresses the petition.

Finding

Based on our review of the information provided in the petition and in the sources cited in the petition, we find that the petition presents substantial scientific or commercial information indicating that the petitioned action may be warranted for the pygmy three-toed sloth based on factors A, B, C, and E (see Appendix for the pygmy three-toed sloth). Thus, for the pygmy three-toed sloth, the Service requests information on the five listing factors under section 4(a)(1) of the Act (see Request for Information).

Conclusion

On the basis of our evaluation of the information presented under section 4(b)(3)(A) of the Act, we have determined that the three petitions summarized above present substantial scientific or commercial information indicating that the requested actions may be warranted, and we are initiating status reviews to determine whether these actions are warranted under the Act. At the conclusion of the status reviews, we will issue 12-month findings in accordance with section 4(b)(3)(B) of the Act, as to whether or not listing is warranted.

It is important to note that the “substantial information” standard for a 90-day finding differs from the Act's “best scientific and commercial data” standard that applies to a status review to determine whether a petitioned action is warranted. A 90-day finding does not constitute a status review under the Act. In a 12-month finding, we will determine whether a petitioned action is warranted after we have completed a thorough review of the species. Because the Act's standards for 90-day and 12-month findings are different, as described above, a substantial 90-day finding does not mean that the 12-month finding will result in a warranted finding.

References Cited

On http://www.regulations.gov, the docket for each species (see table under ADDRESSES) contains the relevant appendix and petition mentioned above. Each appendix contains a list of references cited. Each appendix is also available upon request from the Branch of Foreign Species (see FOR FURTHER INFORMATION CONTACT).

Author

The primary author of this document is Amy Brisendine, Branch of Foreign Species, Ecological Services Program, U.S. Fish and Wildlife Service (see FOR FURTHER INFORMATION CONTACT).

Authority

The authority for these actions is the Endangered Species Act of 1973, as amended (16 U.S.C. 1531 et seq.).

Dated: May 27, 2014.
Stephen Guertin,
Acting Director, U.S. Fish and Wildlife Service.

[FR Doc. 2014-13288 Filed 6-6-14; 8:45 am]

BILLING CODE 4310-55-P